DEPARTMENT OF COMMERCE

International Trade Administration

[A-588-881]

Aluminum Lithographic Printing Plates From Japan: Final Affirmative Determination of Sales at Less-Than-Fair-Value

AGENCY: Enforcement and Compliance, International Trade Administration, Department of Commerce.

SUMMARY: The U.S. Department of Commerce (Commerce) determines that aluminum lithographic printing plates (printing plates) from Japan are being, or are likely to be, sold in the United States at less than fair value (LTFV). The period of investigation (POI) is July 1, 2022, through June 30, 2023.

DATES: Applicable September 27, 2024.

FOR FURTHER INFORMATION CONTACT: Caroline Carroll, AD/CVD Operations, Office IX, Enforcement and Compliance, International Trade Administration, U.S. Department of Commerce, 1401 Constitution Avenue NW, Washington, DC 20230; telephone: (202) 482-4948.

SUPPLEMENTARY INFORMATION:

Background

On May 1, 2024, Commerce published in the Federal Register the Preliminary Determination in this investigation and invited interested parties to comment.¹ On July 22, 2024, Commerce tolled certain deadlines in this investigation by seven days.² The deadline for the final determination is now September 20, 2024. For a complete description of the events that occurred since the Preliminary Determination, see the Issues and Decision Memorandum.³ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

¹ See Aluminum Lithographic Printing Plates from Japan: Preliminary Affirmative Determination of Sales at Less Than Fair Value, Postponement of Final Determination, and Extension of Provisional Measures, 89 FR 35065 (May 1, 2024) (Preliminary Determination), and accompanying Preliminary Decision Memorandum (PDM).

² See Memorandum, “Tolling of Deadlines for Antidumping and Countervailing Duty Proceedings,” dated July 22, 2024.

³ See Memorandum, “Decision Memorandum for the Final Affirmative Determination in the Less-Than-Fair-Value Investigation of Aluminum Lithographic Printing Plates from Japan,” dated concurrently with, and hereby adopted by, this notice (Issues and Decision Memorandum).

Scope of the Investigation

The merchandise covered by the scope of this investigation is printing plates from Japan. For a complete description of the scope of this investigation, see Appendix I.

Scope Comments

We received no comments from interested parties on the scope of the investigation as it appeared in the Preliminary Determination. Therefore, we made no changes to the scope of the investigation.

Verification

As provided in section 782(i) of the Tariff Act of 1930, as amended (the Act), in May 2024, Commerce conducted on-site verifications of the data reported by Fujifilm and its U.S. affiliate, Fujifilm North America Corporation, using standard verification procedures.⁴

⁴ See Memoranda, “Verification of the Sales Response of Fujifilm Corporation,” dated July 17, 2024; “Verification of the U.S. Sales Response of Fujifilm North America Corporation,” dated July 18, 2024; and “Verification of the Cost Response of Fujifilm Corporation,” dated August 7, 2024.

Analysis of Comments Received

The issues raised in the case and rebuttal briefs by the parties in this investigation are addressed in the Issues and Decision Memorandum. For a list of the issues raised by interested parties and addressed in the Issues and Decision Memorandum, see Appendix II.

Changes Since the Preliminary Determination

Based on our review and analysis of the information at verification and comments received from interested parties, we made certain changes to the margin calculations for Fujifilm. For a discussion of these changes, see the Issues and Decision Memorandum.

Use of Adverse Facts Available

As discussed in the Preliminary Determination, Commerce assigned to one of the mandatory respondents in this investigation, Miraclon Corporation Ltd. (Miraclon), an estimated weighted-average dumping margin on the basis of adverse facts available (AFA), pursuant to sections 776(a) and (b) of the Act, because it failed to cooperate by not acting to the best of its ability to comply with Commerce's requests for information.⁵ As discussed in the Issues and Decision Memorandum, we find no basis to change our decision in the Preliminary Determination to apply AFA to Miraclon. As AFA, we continue to apply the highest transactions specific margin calculated for Fujifilm (i.e., 160.11 percent) because it is a rate derived from information submitted on the record and is sufficiently adverse to ensure that the uncooperative party does not obtain a more favorable result by failing to cooperate than if it had fully cooperated.⁶

⁵ See Preliminary Determination, 89 FR at 35065.

⁶ See Preliminary Determination PDM at 6.

All-Others Rate

Section 735(c)(5)(A) of the Act provides that the estimated weighted-average dumping margin for all other producers and exporters not individually investigated shall be equal to the weighted average of the estimated weighted-average dumping margins established for individually investigated exporters and producers, excluding rates that are zero, de minimis, or determined entirely under section 776 of the Act.

In this investigation, Commerce assigned a rate based entirely on facts available to Miraclon. Therefore, the only rate that is not zero, de minimis, or based entirely on facts otherwise available is the rate calculated for Fujifilm. Consequently, the rate calculated for Fujifilm is also assigned as the rate for all other producers and/or exporters.

Final Determination

The final estimated weighted-average dumping margins are listed below:

Exporter/producer | Weighted- average dumping margin (percent)
Fujifilm Corporation; Fujifilm Shizuoka Co., Ltd | 91.83
Miraclon Corporation Ltd | * 160.11
All Others | 91.83
* Rate is based on AFA.

Disclosure

Commerce intends to disclose the calculations performed in connection with this final determination to interested parties within five days of any public announcement or, if there is no public announcement, within five days of the date of publication of this final determination in the Federal Register, in accordance with 19 CFR 351.224(b).

Continuation of Suspension of Liquidation

In accordance with section 735(c)(1)(B) of the Act, Commerce will instruct U.S. Customs and Border Protection (CBP) to continue to suspend liquidation of all entries of aluminum lithographic printing plates, as described in Appendix I of this notice, which were entered or withdrawn from warehouse for consumption on or after May 1, 2024, the date of publication of the Preliminary Determination of this investigation in the Federal Register.

Pursuant to section 735(c)(1)(B)(ii) of the Act and 19 CFR 351.210(d), upon the publication of this notice, we will instruct CBP to require a cash deposit for estimated antidumping duties for such entries as follows: (1) the cash deposit rate for the respondents listed in the table above will be equal to the company-specific estimated weighted-average dumping margin determined in this final determination; (2) if the exporter is not the respondent listed in the table above, but the producer is, then the cash deposit rate will be equal to the company-specific estimated weighted-average dumping margin listed for the producer of the subject merchandise; and (3) the cash deposit rate for all other producers and exporters will be equal to the all-others estimated weighted-average dumping margin listed in the table above. These suspension of liquidation instructions will remain in effect until further notice.

U.S. International Trade Commission Notification

In accordance with section 735(d) of the Act, Commerce will notify the U.S. International Trade Commission (ITC) of its final affirmative determination of sales at LTFV. Because the final determination in this investigation is affirmative, in accordance with section 735(b)(2) of the Act, the ITC will make its final determination as to whether the domestic industry in the United States is materially injured or threatened with material injury by reason of imports of printing plates from Japan no later than 45 days after our final determination. If the ITC determines that such injury does not exist, this proceeding will be terminated, all cash deposits posted will be refunded, and suspension of liquidation will be lifted. If the ITC determines that such injury does exist, Commerce will issue an antidumping duty order directing CBP to assess, upon further instruction by Commerce, antidumping duties on all imports of the subject merchandise entered or withdrawn from warehouse for consumption on or after the effective date of the suspension of liquidation, as discussed in the “Continuation of Suspension of Liquidation” section.

Administrative Protective Order

This notice also serves as a reminder to parties subject to an administrative protective order (APO) of their responsibility concerning the return or destruction of proprietary information disclosed under APO in accordance with 19 CFR 351.305(a)(3). Timely written notification of the return or destruction of APO materials, or conversion to judicial protective order, is hereby requested. Failure to comply with the regulations and terms of an APO is a violation which is subject to sanction.

Notification to Interested Parties

This determination is issued and published in accordance with sections 735(d) and 777(i)(1) of the Act and 19 CFR 351.210(c).

Dated: September 20, 2024.
Ryan Majerus,
Deputy Assistant Secretary for Policy and Negotiations, performing the non-exclusive functions and duties of the Assistant Secretary for Enforcement and Compliance.

Appendix I

Scope of the Investigation

The merchandise covered by this investigation is aluminum lithographic printing plates. Aluminum lithographic printing plates consist of a flat substrate containing at least 90 percent aluminum. The aluminum-containing substrate is generally treated using a mechanical, electrochemical, or chemical graining process, which is followed by one or more anodizing treatments that form a hydrophilic layer on the aluminum-containing substrate. An image-recording, oleophilic layer that is sensitive to light, including but not limited to ultra-violet, visible, or infrared, is dispersed in a polymeric binder material that is applied on top of the hydrophilic layer, generally on one side of the aluminum lithographic printing plate. The oleophilic light-sensitive layer is capable of capturing an image that is transferred onto the plate by either light or heat. The image applied to an aluminum lithographic printing plate facilitates the production of newspapers, magazines, books, yearbooks, coupons, packaging, and other printed materials through an offset printing process, where an aluminum lithographic printing plate facilitates the transfer of an image onto the printed media. Aluminum lithographic printing plates within the scope of this investigation include all aluminum lithographic printing plates, irrespective of the dimensions or thickness of the underlying aluminum substrate, whether the plate requires processing after an image is applied to the plate, whether the plate is ready to be mounted to a press and used in printing operations immediately after an image is applied to the plate, or whether the plate has been exposed to light or heat to create an image on the plate or remains unexposed and is free of any image.

Subject merchandise also includes aluminum lithographic printing plates produced from an aluminum sheet coil that has been coated with a light-sensitive image-recording layer in a subject country and that is subsequently unwound and cut to the final dimensions to produce a finished plate in a third country (including the United States), or exposed to light or heat to create an image on the plate in a third country (including in a foreign trade zone within the United States).

Excluded from the scope of this investigation are lithographic printing plates manufactured using a substrate produced from a material other than aluminum, such as rubber or plastic.

Aluminum lithographic printing plates are currently classifiable under Harmonized Tariff of the United States (HTSUS) subheadings 3701.30.0000 and 3701.99.6060. Further, merchandise that falls within the scope of this investigation may also be entered into the United States under HTSUS subheadings 3701.99.3000 and 8442.50.1000. Although the HTSUS subheadings are provided for convenience and customs purposes, the written description of the scope of this investigation is dispositive.

Appendix II

List of Topics Discussed in the Issues and Decision Memorandum

I. Summary

II. Background

III. Changes Since the Preliminary Determination

IV. Discussion of the Issues

Comment 1: Whether Miraclon Corporation Ltd. (Miraclon) Made Sales of Subject Merchandise During the POI

Comment 2: Whether Commerce Should Offset Fujifilm's Reported U.S. Freight Expenses by its Reported Freight Revenue

Comment 3: Whether the Price Used to Calculate Fujifilm's U.S. Credit Expenses should Exclude Price Adjustments

Comment 4: Whether the Price Used to Calculate Fujifilm's U.S. Indirect Selling Expenses (INDIRS1U, INDIRS2U, INDIRS3U) Should Exclude Price Adjustments

Comment 5: Whether Fujifilm's Revenues from the Sale of Aluminum Scrap Should Offset Repacking and Resizing Costs

Comment 6: Whether Commerce Should Grant Fujifilm a Constructed Export Price (CEP) Offset

Comment 7: Whether Commerce Should Apply Adverse Facts Available (AFA) for Fujifilm's Failure to Submit Downstream Home Market Sales for One Home Market Affiliate

Comment 8: Whether Fujifilm's Allocation of Warehouse and Other U.S. Transportation Expenses is Distortive

Comment 9: Whether to Include Fujifilm's Home Market Quantity Discount Program Discovered at Verification

Comment 10: Whether Commerce Should Include the Net Hedging Expenses Recorded in Fujifilm's Audited Financial Statements as Part of Fujifilm's Interest Expenses

Comment 11: Whether Commerce Should Revise the General and Administrative (G&A) Expense Ratio to Incorporate Missing Expenses

V. Recommendation

[FR Doc. 2024-22157 Filed 9-26-24; 8:45 am]

BILLING CODE 3510-DS-P